DEPARTMENT OF AGRICULTURE

Agricultural Marketing Service

[FV-01-332]

Notice of Request for Extension and Revision of a Currently Approved Information Collection

AGENCY: Agricultural Marketing Service, USDA.

ACTION: Notice and request for comments.

SUMMARY: In accordance with the Paperwork Reduction Act of 1995 (44 U.S.C. Chapter 35), this notice announces the intention of the Agricultural Marketing Service (AMS) to request an extension for and revision to a currently approved information collection in support of the Regulations Governing Inspection and Certification of Processed Fruits and Vegetables and Related Products.

DATES: Comments may be submitted on or before July 6, 2001.

ADDITIONAL INFORMATION OR COMMENTS: Contact James R. Rodeheaver, Processed Products Branch, Fruit and Vegetable Programs, Agricultural Marketing Service, U.S. Department of Agriculture, STOP 0247, 1400 Independence Avenue, SW, Washington, DC 20250-0247; fax (202) 690-1527; or e-mail “james.rodeheaver@usda.gov”.

SUPPLEMENTARY INFORMATION: Title: “Regulations Governing Inspection and Certification of Processed Fruits and Vegetables and Related Products—7 CFR 52”.

OMB Number: 0581-0123.

Expiration Date of Approval: December 31, 2001.

Type of Request: Extension and revision of a currently approved information collection.

Abstract: The Agricultural Marketing Act of 1946 (7 U.S.C. 1621 et seq.) (AMA) directs and authorizes the Department to develop standards of quality, grades, grading programs, and services which facilitate trading of agricultural products and assure consumers of quality products which are graded and identified under USDA programs. To provide programs and services, section 203(h) of the AMA directs and authorizes the Secretary of Agriculture to inspect, certify, and identify the grade, class, quality, quantity, and condition of agricultural products under such rules and regulations as the Secretary may prescribe, including assessment and collection of fees for the cost of the service. The regulations in 7 CFR part 52 provide a voluntary program for grading processed fruits and vegetables and related products on the basis of U.S. standards and grades. AMS also provides other types of voluntary services under the regulations, e.g., contract and specification acceptance services, facility assessment services and certifications of quantity and quality. Voluntary grading services are available on a resident basis or a lot-fee basis. Respondents may request resident service on a continuous basis or on an as-needed basis. The service is paid for by the user (user-fee). Because this is a voluntary program, respondents need to request or apply for the specific service they wish, and in doing so, they provide information. Since the AMA requires that the cost of service be assessed and collected, information is collected to establish the Agency's cost. The information collection requirements in this request are essential to carry out the intent of the AMA, to provide the respondents the type of service they request, and to administer the program. The information collected is used only by authorized representatives of the USDA (AMS, Fruit and Vegetable Programs' national staff; regional directors and their staffs; Area Officers-in Charge and their staffs; and resident Federal graders). The information is used to administer and to conduct and carry out the grading services requested by the respondents. The Agency is the primary user of the information. Information is needed to carry out inspection and grading services to evaluate products as to quality for compliance with the respective grade standards or product specifications. Affected public may include any partnership, association, business trust, corporation, organized group, and State, County or Municipal government, and any authorized agent that has a financial interest in the commodity involved.

Estimate of Burden: Public reporting burden for this collection of information is estimated to average 0.0007 hours per response (33,492 total hours divided by 48,127 total annual responses).

Respondents: Applicants who are applying for grading and inspection services, and the Qualified Through Verification Program.

Estimated Number of Respondents: 1,672.

Estimated Number of Responses per Respondent: 28.784.

Estimated Total Annual Burden on Respondents: 33,492.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Mr. James R. Rodeheaver, Processed Products Branch, Fruit and Vegetable Programs, Agricultural Marketing Service, U.S. Department of Agriculture, Room 0709, South Building, STOP 0247, P.O. Box 96456, Washington, DC 20090-4693; faxed to (202) 690-1087; or e-mailed to james.rodeheaver@usda.gov.

All comments received will be available for public inspection during regular business hours at the same address.

All responses to this notice will be summarized and included in the request for OMB approval. All comments will become a matter of public record.

Dated: May 1, 2001.
Kenneth C. Clayton,
Acting Administrator, Agricultural Marketing Service.

[FR Doc. 01-11429 Filed 5-4-01; 8:45 am]

BILLING CODE 3410-02-P